DEPARTMENT OF TRANSPORTATION

Federal Railroad Administration

[Docket Number FRA-2000-7275]

Petition for Waiver of Compliance

In accordance with part 211 of Title 49 Code of Federal Regulations (CFR), this document provides the public notice that by a document dated September 17, 2014, Pennsylvania Northeast Regional Railroad Authority (PNRRA) and Delaware-Lackawanna Railroad (DL) have jointly petitioned the Federal Railroad Administration (FRA) for a waiver of compliance from certain provisions of the Federal railroad safety regulations. FRA assigned the petition Docket Number FRA-2000-7275.

PNRRA provides an historic trolley excursion in conjunction with the Lackawanna County Electric City Trolley Station and Museum (Trolley Museum). DL has operated and dispatched this historic trolley since the start of service in April 2001. The purpose of this historic trolley excursion is to expand the historical interpretation provided by the Trolley Museum by offering a tourist excursion using vintage trolley cars, and is not in any way an urban transit operation. Beginning at the Steamtown Passenger Depot, this trolley car excursion operates via PNRRA's Brady Line within the National Park Service's Steamtown Yard, and thence along the historic Laurel Line past the Scranton Iron Furnaces and Roaring Brook, to a station stop at the Historic Trolley Maintenance Building, a distance of just under 5 miles. Because of the connection to the general railroad system over the shared track portion, current trolley operations will continue to use the successful FRA-approved temporal separation procedure that guarantees exclusive use of this shared trackage during its exclusive excursion/passenger period.

The route of the historic trolley excursion has undergone several extensions since its original 1-mile run in 2001. One mile was added in 2002 and 3 miles were added in May 2004. In June 2006, a 1,870-foot extension brought the route into its new terminus at the station platform on Track 1 outside the Historic Trolley Maintenance Building.

PNRRA seeks an extension of its waiver of compliance from several parts of 49 CFR (first granted by FRA in 2001, extended in 2006 and 2011) for continued operation of its historic trolley car excursion that shares trackage with the general railroad system. This request is consistent with the requirements set forth in the “Statement of Agency Policy Concerning Jurisdiction Over the Safety of Railroad Passenger Operations and Waivers Related to Shared Use of the Tracks of the General Railroad System by Light Rail and Conventional Equipment,” 65 FR 42529 (July 10, 2000); see also the “Joint Statement of Agency Policy Concerning Shared Use of the Tracks of the General Railroad System by Conventional Railroads and Light Rail Transit Systems.” 65 FR 42626 (July 10, 2000).

Based on the foregoing, PNRRA is again seeking an extension of the terms and conditions of its current waiver of compliance from several regulatory sections. Specifically, PNRRA seeks relief from the following: 49 CFR part 221—Rear-End Marking Device—Passenger, Commuter and Freight Trains; 49 CFR part 223—Safety Glazing Standards—Locomotives, Passenger Cars and Cabooses; 49 CFR 229.129—Locomotive horn; 49 CFR part 231—Railroad Safety Appliance Standards; 49 CFR part 239—Passenger Train Emergency Preparedness; and 49 CFR part 240—Qualification and Certification of Locomotive Engineers.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate Docket Number (e.g., Waiver Petition Docket Number FRA-2000-7275) and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 8, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC.
Robert C. Lauby,
Associate Administrator for Railroad Safety, Chief Safety Officer.

[FR Doc. 2015-32449 Filed 12-23-15; 8:45 am]

BILLING CODE 4910-06-P